DEPARTMENT OF THE INTERIOR

National Park Service

[NPS-WASO-NRNHL-24723; PPWOCRADI0, PCU00RP14.R50000]

National Register of Historic Places; Notification of Pending Nominations and Related Actions

AGENCY: National Park Service, Interior.

ACTION: Notice.

SUMMARY: The National Park Service is soliciting comments on the significance of properties nominated before November 25, 2017, for listing or related actions in the National Register of Historic Places.

DATES: Comments should be submitted by January 2, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before November 25, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

KANSAS

Barton County

Allen, A.S., Buildings, 1401 Main St. & 2006 Forest, Great Bend, SG100001944

Cherokee County

Big Brutus, 6509 NW 60th St., West Mineral, SG100001945

Douglas County

Santa Fe Depot, 413 E 7th St., Lawrence, MP100001946

Montgomery County

Inge, William, Boyhood Home, 514 N 4th St., Independence, SG100001947

Pottawatomie County

German Evangelical Church, NE corner of 6th & State Sts., Westmoreland, SG100001949

Pottawatomie County Courthouse

106 Main St., Westmoreland, MP100001950

MASSACHUSETTS

Worcester County

Moran Square Historic District, Myrtle Ave., Sawyer Passway, Summer, Lunenburg, Main & Willow Sts., Fitchburg, SG100001951

NORTH DAKOTA

Burke County

Burke County World War Memorial Hall, 101 1st St., Flaxton, SG100001952

WISCONSIN

La Crosse County

Gundersen, Dr. Adolf and Helga, Cottage, 1000 US 14/61, La Crosse, SG100001954

A request to move has been received for the following resource:

KANSAS

Norton County

Sand Creek Truss Leg Bedstead Bridge, (Metal Truss Bridges in Kansas 1861—1939 MPS), Rd. Y, 0.5 mi. W of int with KS 283, 2 mi. N of KS 9 and 6 mi. NE of Lenora, Lenora vicinity, MV03000365

Nominations submitted by Federal Preservation Officers:

The State Historic Preservation Officer reviewed the following nominations and responded to the Federal Preservation Officer within 45 days of receipt of the nominations and supports listing the properties in the National Register of Historic Places.

PENNSYLVANIA

Lackawanna County

U.S. Post Office and Court House, 235 N Washington Ave., Scranton, SG100001953

WYOMING

Big Horn County

Schunk Lodge, Approx. 1 mi. N of Red Grade Rd. & Big Goose RS, Bighorn NF, Big Horn vicinity, SG100001955

Authority: 60.13 of 36 CFR part 60.

Dated: December 1, 2017.
Julie H. Ernstein,
Acting Chief, National Register of Historic Places/National Historic Landmarks Program.

[FR Doc. 2017-27063 Filed 12-14-17; 8:45 am]

BILLING CODE 4312-52-P